DEPARTMENT OF TRANSPORTATION

Federal Aviation Administration

14 CFR Part 39

[Docket No. 99-NM-240-AD; Amendment 39-11790; AD 2000-12-12]

RIN 2120-AA64

Airworthiness Directives; Airbus Industrie Model A300, A300-600, and A310 Series Airplanes

AGENCY: Federal Aviation Administration, DOT.

ACTION: Final rule.

SUMMARY: This amendment supersedes an existing airworthiness directive (AD), applicable to certain Airbus Model A300, A300-600, and A310 series airplanes, that currently requires inspections to detect cracks in the lower spar axis of the nacelle pylon between ribs 9 and 10, and repair, if necessary. The existing AD also provides for optional modification of the pylon, which terminates the inspections for Model A300 and A310 series airplanes and increases the threshold and repetitive interval of the inspections for Model A300-600 series airplanes. This amendment reduces the inspection threshold and requires repetitive inspections following accomplishment of the optional modification for Model A310 series airplanes. This amendment is prompted by issuance of mandatory continuing airworthiness information by a foreign civil airworthiness authority. The actions specified by this AD are intended to prevent fatigue cracking, which could result in reduced structural integrity of the lower spar of the pylon.

DATES: Effective July 28, 2000.

The incorporation by reference of Airbus Industrie Service Bulletins A310-54-2016, Revision 02, dated June 11, 1999, and A310-54-2022, Revision 1, dated March 16, 1999 is approved by the Director of the Federal Register as of July 28, 2000.

The incorporation by reference of the remaining Airbus Industrie publications was approved previously by the Director of the Federal Register as of June 12, 1995 (60 FR 25604, May 12, 1995).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 95-10-03, amendment 39-9220 (60 FR 25604, May 12, 1995), which is applicable to certain Airbus Model A300, A300-600, and A310 series airplanes, was published in the Federal Register on April 20, 2000 (65 FR 21154). The action proposed to continue to require inspections to detect cracks in the lower spar axis of the nacelle pylon between ribs 9 and 10, and repair, if necessary. The action also proposed to continue to provide for optional modification of the pylon, which terminates the inspections for Model A300 and A310 series airplanes and increases the threshold and repetitive interval of the inspections for Model A300-600 series airplanes. The action also proposed to reduce the inspection threshold and require repetitive inspections following accomplishment of the optional modification for Model A310 series airplanes.

Comments

Interested persons have been afforded an opportunity to participate in the making of this amendment. No comments were submitted in response to the proposal or the FAA's determination of the cost to the public.

Conclusion

The FAA has determined that air safety and the public interest require the adoption of the rule as proposed.

Cost Impact

The FAA estimates that 140 airplanes of U.S. registry will be affected by this AD.

It will take approximately 4 work hours per airplane to accomplish the inspection that was previously required by AD 95-10-03, and retained in this AD, at an average labor rate of $60 per work hour. Based on these figures, the cost impact of the inspection on U.S. operators is estimated to be $240 per airplane, per inspection cycle.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9220 (60 FR 25604, May 12, 1995), and by adding a new airworthiness directive (AD), amendment 39-11790, to read as follows:

2000-12-12 Airbus Industrie: Amendment 39-11790. Docket 99-NM-240-AD. Supersedes AD 95-10-03, Amendment 39-9220.

Applicability: The following airplanes, certificated in any category:

—Model A300 series airplanes, as listed in Airbus Service Bulletin A300-54-071, Revision 1, dated October 15, 1993.

—Model A300-600 series airplanes, as listed in Airbus Service Bulletin A300-54-6011, Revision 1, dated October 15, 1993.

—Model A310 series airplanes, as listed in Airbus Service Bulletin A310-54-2016, Revision 02, dated June 11, 1999.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent fatigue cracking, which could result in reduced structural integrity of the lower spar of the pylon, accomplish the following:

Restatement of Certain Requirements of AD 95-10-03

Model A300 Series Airplanes

(a) For Model A300 B4-2C, B2K-3C, B2-203, B4-103, and B4-203 series airplanes: Prior to the accumulation of 9,000 total landings, or within 500 landings after June 12, 1995 (the effective date of AD 95-10-03, amendment 39-9220), whichever occurs later, perform an internal eddy current inspection to detect cracks in the lower spar axis of the pylon between ribs 9 and 10, in accordance with Airbus Industrie Service Bulletin A300-54-071, dated November 12, 1991; or Revision 1, dated October 15, 1993.

(1) If no crack is found, repeat the inspection thereafter at intervals not to exceed 2,500 landings.

(2) If any crack is found that is less than or equal to 30 mm: Perform subsequent inspections and repair in accordance with the methods and times specified in the service bulletin.

(3) If any crack is found that is greater than 30 mm, but less than 100 mm: Prior to the accumulation of 250 landings after crack discovery, repair in accordance with a method approved by the Manager, International Branch, ANM-116, FAA, Transport Airplane Directorate; or the Direction Générale de l'Aviation Civile (DGAC) (or its delegated agent).

(4) If any crack is found that is greater than or equal to 100 mm: Prior to further flight, repair in accordance with a method approved by the Manager, International Branch, ANM-116; or the DGAC (or its delegated agent).

(5) Accomplishment of the modification specified in Airbus Industrie Service Bulletin A300-54-0079, dated October 15, 1993, constitutes terminating action for the inspections required by paragraph (a) of this AD.

Model A300-600 Series Airplanes

(b) For Model A300-600 B4-620, C4-620, B4-622R, and B4-622 series airplanes: Except as provided by paragraph (b)(5) of this AD, prior to the accumulation of 4,000 total landings, or within 500 landings after June 12, 1995 (the effective date of AD 95-10-03), whichever occurs later, perform an internal eddy current inspection to detect cracks in the lower spar axis of the pylon between ribs 9 and 10, in accordance with Airbus Industrie Service Bulletin A300-54-6011, dated November 12, 1991, as amended by Service Bulletin Change Notice O.A., dated July 10, 1992; or Revision 1, dated October 15, 1993.

(1) If no crack is found, repeat the inspection thereafter at intervals not to exceed 2,500 landings.

(2) If any crack is found that is less than or equal to 30 mm: Perform subsequent inspections and repair in accordance with the methods and times specified in the service bulletin.

(3) If any crack is found that is greater than 30 mm, but less than 100 mm: Prior to the accumulation of 250 landings after crack discovery, repair in accordance with a method approved by the Manager, International Branch, ANM-116; or the Direction Générale de l'Aviation Civile (DGAC) (or its delegated agent).

(4) If any crack is found that is greater than or equal to 100 mm: Prior to further flight, repair in accordance with a method approved by the Manager, International Branch, ANM-116; or the DGAC (or its delegated agent).

(5) Accomplishment of the modification specified in Airbus Industrie Service Bulletin A300-54-6019, dated October 15, 1993, increases the threshold and repetitive interval of the inspections required by paragraph (b) of this AD to the threshold and interval specified in paragraph 2.D. of the Accomplishment Instructions of Airbus Industrie Service Bulletin A300-54-6011, Revision 1, dated October 15, 1993.

New Requirements of This AD

Model A310 Series Airplanes

(c) For Model A310-221, -222, -322, -324, and -325 series airplanes: Perform an internal eddy current inspection to detect cracks in the lower spar axis of the pylon between ribs 9 and 10, in accordance with Airbus Industrie Service Bulletin A310-54-2016, dated November 12, 1991; or Revision 1, dated October 15, 1993; or Revision 02, dated June 11, 1999; at the time specified in paragraph (d) of this AD.

(1) If no crack is found, repeat the inspection thereafter at intervals not to exceed 2,500 landings.

(2) If any crack is found that is less than or equal to 30 mm: Perform subsequent inspections and repair in accordance with the methods and times specified in the service bulletin.

(3) If any crack is found that is greater than 30 mm, but less than 100 mm: Prior to the accumulation of 250 landings after crack discovery, repair in accordance with a method approved by the Manager, International Branch, ANM-116; or the DGAC (or its delegated agent).

(4) If any crack is found that is greater than or equal to 100 mm: Prior to further flight, repair in accordance with a method approved by the Manager, International Branch, ANM-116; or the DGAC (or its delegated agent).

(5) Accomplishment of the modification specified in Airbus Industrie Service Bulletin A310-54-2022, dated October 15, 1993; or Revision 01, dated March 16, 1999; increases the threshold and repetitive interval of the inspections required by paragraph (c) of this AD to the threshold and interval specified in paragraph 2.D. of the Accomplishment Instructions of Airbus Industrie Service Bulletin A310-54-2016, Revision 02, dated June 11, 1999.

(d) Perform the initial inspection required by paragraph (c) of this AD at the earlier of the times specified by paragraphs (d)(1) and (d)(2) of this AD.

(1) Prior to the accumulation of 25,000 total landings, or within 500 landings after June 12, 1995, whichever occurs later.

(2) At the applicable time specified by paragraph (d)(2)(i), (d)(2)(ii), or (d)(2)(iii) of this AD.

(i) For airplanes that have accumulated fewer than 10,000 landings as of the effective date of this AD: Perform the inspection prior to the accumulation of 3,800 total landings, or within 1,500 landings after the effective date of this AD, whichever occurs later.

(ii) For airplanes that have accumulated 10,000 total landings or more, but fewer than 20,000 total landings, as of the effective date of this AD: Perform the inspection within 1,000 landings after the effective date of this AD.

(iii) For airplanes that have accumulated 20,000 total landings or more as of the effective date of this AD: Perform the inspection within 500 landings after the effective date of this AD.

Alternative Methods of Compliance

(e) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) Except as provided by paragraphs (a)(3), (a)(4), (b)(3), (b)(4), (c)(3), and (c)(4) of this AD, the actions shall be done in accordance with the following Airbus Industrie service bulletins, as applicable.

Airbus Industrie Service Bulletin No. | Revision Level | Service Bulletin Date
A300-54-071 | Original | November 12, 1991.
A300-54-071 | 1 | October 15, 1993.
A300-54-0079 | Original | October 15, 1993.
A300-54-6011 | Original | November 12, 1991.
Change Notice O.A. A300-54-6011 | Original | July 10, 1992.
A300-54-6011 | 1 | October 15, 1993.
A300-54-6019 | Original | October 15, 1993.
A310-54-2016 | Original | November 12, 1991.
A310-54-2016 | 1 | October 15, 1993.
A310-54-2022 | Original | October 15, 1993.
A310-54-2022 | 01 | March 16, 1999.
A310-54-2016 | 02 | June 11, 1999.

(1) The incorporation by reference of Airbus Industrie Service Bulletin

A310-54-2016, Revision 02, dated June 11, 1999; and A310-54-2022, Revision 1, dated March 16, 1999, is approved by the Director of the Federal Register in accordance with 5 U.S.C. 552(a) and 1 CFR part 51.

(2) The incorporation by reference of the remaining Airbus Industrie publications was approved previously by the Director of the Federal Register as of June 12, 1995 (60 FR 25604, May 12, 1995).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 1999-237-285(B), dated June 2, 1999.

(h) This amendment becomes effective on July 28, 2000.

Issued in Renton, Washington, on June 9, 2000.
Donald L. Riggin,
Acting Manager, Transport Airplane Directorate, Aircraft Certification Service.

[FR Doc. 00-15185 Filed 6-22-00; 8:45 am]

BILLING CODE 4910-13-U